FEDERAL RETIREMENT THRIFT INVESTMENT BOARD

Notice of Board Meeting

DATES: September 24, 2024 at 10 a.m. EDT.

ADDRESSES: Telephonic. Dial-in (listen only) information: Number: 1-202-599-1426, Code: 884 634 853 #; or via web: https://www.frtib.gov/.

FOR FURTHER INFORMATION CONTACT: Kimberly Weaver, Director, Office of External Affairs, (202) 942-1640.

SUPPLEMENTARY INFORMATION:

Board Meeting Agenda

Open Session

1. Approval of the August 27, 2024, Board Meeting Minutes

2. Investment Manager Annual Service Review

3. Monthly Reports

(a) Participant Report

(b) Investment Report

(c) Legislative Report

4. Quarterly Reports

(d) Vendor Risk Management

5. Mid-Year Financial Review

6. Participant Satisfaction Survey

Closed Session

7. Information covered under 5 U.S.C. 552b (c)(9)(B) and (c)(10).

Authority: 5 U.S.C. 552b (e)(1).

Dated: September 11, 2024.
Dharmesh Vashee,
General Counsel, Federal Retirement Thrift Investment Board.

[FR Doc. 2024-20952 Filed 9-13-24; 8:45 am]

BILLING CODE 6760-01-P